SMALL BUSINESS ADMINISTRATION

[Declaration of Disaster #3651]

State of North Carolina

Moore County and the contiguous counties of Chatham, Cumberland, Harnett, Hoke, Lee, Montgomery, Randolph, Richmond, and Scotland in the State of North Carolina constitute a disaster area as a result of damages caused by flooding and tornadoes created by remnants of Hurricane Jeanne that occurred on September 20, 2004. Applications for loans for physical damage as a result of this disaster may be filed until the close of business on January 11, 2005, and for economic injury until the close of business on August 10, 2005, at the address listed below or other locally announced locations: U.S. Small Business Administration, Disaster Area 2 Office, One Baltimore Place, Suite 300, Atlanta, GA 30308.

The interest rates are:

| Percent
For Physical Damage:
Homeowners With Credit Available Elsewhere | 6.375
Homeowners Without Credit Available Elsewhere | 3.187
Businesses With Credit Available Elsewhere | 5.800
Businesses and Non-Profit Organizations Without Credit Available Elsewhere | 2.900
Others (Including Non-Profit Organizations) With Credit Available Elsewhere | 4.875
For Economic Injury:
Businesses and Small Agricultural Cooperatives Without Credit Available Elsewhere | 2.900

The number assigned to this disaster for physical damage is 365106 and for economic damage is 9AJ600.

(Catalog of Federal Domestic Assistance Program Nos. 59002 and 59008)
Dated: November 12, 2004.
Hector V. Barreto,
Administrator.

[FR Doc. 04-25876 Filed 11-19-04; 8:45 am]

BILLING CODE 8025-01-P